DEPARTMENT OF HEALTH AND HUMAN SERVICES

Food and Drug Administration

[Docket No. FDA-2011-D-0739]

Small Entity Compliance Guide: Required Warnings for Cigarette Packages and Advertisements; Availability; Correction

AGENCY: Food and Drug Administration, HHS.

ACTION: Notice; correction.

SUMMARY: The Food and Drug Administration (FDA) is correcting a notice that appeared in the Federal Register of October 25, 2011 (76 FR 66074). The document announced the availability of a guidance for industry entitled “Required Warnings for Cigarette Packages and Advertisements—Small Entity Compliance Guide” for a final rule that published in the Federal Register of June 22, 2011 (76 FR 36628). The notice published with an incorrect docket number. This document corrects that error.

FOR FURTHER INFORMATION CONTACT: Joyce Strong, Office of Policy, Food and Drug Administration, 10903 New Hampshire Ave., Bldg. 32, rm. 3208, Silver Spring, MD 20993-0002, (301) 796-9148.

SUPPLEMENTARY INFORMATION: In FR Doc. 2011-27530, appearing on page 66074, in the Federal Register of Tuesday, October 25, 2011, the following correction is made:

1. On page 66074, in the third column, in the Docket No. heading, “[Docket No. FDA-2011-N-0568]” is corrected to read “[Docket No. FDA-2011-D-0739]”.

Dated: October 25, 2011.
Leslie Kux,
Acting Assistant Commissioner for Policy.

[FR Doc. 2011-28051 Filed 10-28-11; 8:45 am]

BILLING CODE 4160-01-P